DEPARTMENT OF THE INTERIOR

Bureau of Land Management

43 CFR Part 8360

[18X LLAKF0000 L12200000.DD0000 LXSS002L0000]

Final Supplementary Rules for Public Lands Managed by the Eastern Interior Field Office at the Fairbanks District Office Administrative Site, Fairbanks, Alaska

AGENCY: Bureau of Land Management, Interior.

ACTION: Final supplementary rules.

SUMMARY: The Bureau of Land Management (BLM) is finalizing supplementary rules for all BLM-managed public lands within the Fairbanks District Office administrative site. These rules are necessary to enhance the safety of visitors, protect natural resources, improve recreation experiences and opportunities, and protect public health.

DATES: These supplementary rules are effective September 7, 2021.

ADDRESSES: You may send inquiries by mail, email, or hand delivery. Mail or hand delivery: Michelle Ethun, Fairbanks District Office, Bureau of Land Management, 222 University Avenue, Fairbanks, AK 99709. Email: EasternInterior@blm.gov (Include “final supplementary rules” in subject line).

FOR FURTHER INFORMATION CONTACT: Michelle Ethun, Fairbanks District Office, Bureau of Land Management, 222 University venue, Fairbanks AK 99709, 907-474-2200. People who use a telecommunications device for the deaf (TDD) may call the Federal Relay Service (FRS) at 1-800-877-8339 to contact the above individual during normal business hours. You can access the FRS 24 hours a day, seven days a week, to leave a message or question with the above individual. You will receive a reply during normal business hours.

SUPPLEMENTARY INFORMATION:

I. Background

The Fairbanks District Office building is located within a densely developed, mixed residential/commercial area of Fairbanks, Alaska, on BLM-managed public lands within the boundaries of the Eastern Interior Field Office along the bank of the Chena River. In addition to visitors to these offices, the public often uses the open space adjacent to the office building to picnic, walk dogs, or access the Chena River. Visitors encounter inconsistent rules regarding appropriate conduct at the Fairbanks District Office administrative site. This inconsistency hampers the BLM's ability to provide a safe visitor experience and minimize conflicts among users.

These final supplementary rules establish a consistent set of rules for the Fairbanks District Office administrative site. Absent such rules, BLM Law Enforcement Rangers face impediments to preventing acts that compromise public health and safety, such as open fires in proximity to office buildings, overnight/long-term occupancy, unattended domestic animals, and unattended vehicles. The highly urbanized nature of the Fairbanks District Office administrative site, and its location in Class C-E airspace on final approach to Fairbanks International Airport as well as the adjacent State Division of Forestry-Interagency Fire helipad, make some uses of public lands inappropriate; for example, no person may operate an aerial drone in a manner that interferes with neighboring Forestry helipads (14 CFR 107.43). In addition, enforcing State laws and/or borough ordinances is administratively more difficult for BLM Law Enforcement Rangers than enforcing established BLM rules. The BLM is establishing these supplementary rules under the authority of 43 CFR 8365.1-6, which authorizes BLM State Directors to establish supplementary rules for the protection of persons, property, and public lands and resources. There are currently no existing supplementary rules for the Fairbanks District Office administrative site. The administrative site is all property and lands encompassed within the land parcels managed by the BLM within the Fairbanks North Star Borough, legal address 222 University Avenue, Fairbanks, AK 99709, described as:

Fairbanks Meridian, Alaska

T. 1 S., R. 1 W.,

Sec. 7, lots 63 and 69.

The area described here aggregates 11.41 acres.

You may obtain a map of the Fairbanks District Office administrative site in Fairbanks, Alaska, by contacting the office (see ADDRESSES) or by accessing the following web page. https://eplanning.blm.gov/eplanning-ui/project/71962/510.

II. Discussion of Public Comments and Final Supplementary Rules

In general, the BLM uses supplementary rules for permanent, site-specific regulations where general BLM regulations do not meet the specific management needs of a site's unique characteristics. Most common are rules for recreation areas or administrative sites, such as the Fairbanks District Office administrative site. These final supplementary rules apply to 11.41 acres of BLM-managed public lands comprising the BLM Fairbanks District Office administrative site. These final rules address general public conduct and public safety concerns at the BLM facility.

BLM Law Enforcement Rangers will enforce rules only in relation to BLM-managed lands above the mean high water line of the Chena River. Nothing in these final rules imparts any new or special authority or jurisdiction to BLM Law Enforcement Rangers on or within the navigable waters of the State of Alaska or airspace managed by the Federal Aviation Administration. The final rules seek to minimize conflicts with the Fairbanks District Office administrative site's year-round heavy use by employees, volunteers, school groups, contractors, and the public. During the drafting of these rules, which include provisions that address hunting and trapping, the BLM consulted with the Fairbanks Region of the Alaska Department of Fish and Game, which did not object. The Alaska Department of Fish and Game has closed the Chena River to beaver trapping downstream from its confluence with the Little Chena River by State trapping regulations, and the closure area encompasses the segment of the River's riparian corridor adjoining the BLM Fairbanks District Office administrative site.

Supplementary rules 3-4, 7, and 10-11 are consistent with existing State laws or regulations and municipal ordinances and will facilitate cooperation between BLM Law Enforcement Rangers and local or State authorities. Supplementary rules 1, 5, and 8-9 are new. Supplementary rules 2, 6, and 12-13 implement minor modifications or revisions to existing BLM regulations in order to improve enforcement and better align with the Fairbanks administrative site's urban environment.

The BLM published proposed supplementary rules in the Federal Register on November 21, 2017 (82 FR 55340). Publication of the proposed rules started a 60-day public comment period that ended on January 22, 2018. The BLM received 80 written comments on the proposed rule. One comment from a member of the public was supportive of prohibiting hunting and trapping at the administrative site.

The Alaska Department of Fish and Game asked for clarification that the rule would not prohibit the Department from issuing permits for the harvest of nuisance beavers from the Administrative site. The Department has issued such permits along the Chena River, near the Administrative site in the past. The BLM did not make any changes to the supplementary rules in response to Alaska Department of Fish and Game's comment because the rule allows the BLM to provide exemptions for this type of activity. Persons, agencies, municipalities or companies holding a valid special-use permit from the BLM and operating within the scope of their permit are exempt from any of the supplementary rules that are in conflict with the permit. Additionally, the Authorized Officer has discretion to authorize exemptions from the supplementary rules. Therefore, the BLM could exempt a permittee authorized by the Alaska Department of Fish and Game to harvest nuisance beavers from the Administrative site from these supplementary rules either by issuing a BLM special-use permit or by issuing a specific exemption.

The remaining comments are not pertinent to these supplementary rules. The BLM has not revised the rules in response to them.

On its own initiative, the BLM revised the proposed supplementary rules in order to clarify, simplify, and remove duplicative or unnecessary rules. Through this process, the BLM reduced the number of rules from 27 to 13. For example, the proposed rule included three prohibited acts related to weapons and/or firearms. The BLM determined that these were duplicative and that prohibited act 3 is sufficient. The BLM clarified that the definition of “camping” is limited to lands above mean high water on the Chena River. The BLM revised the definition of “explosives” in order to update the definition's reference to a list of explosive materials published and revised at least annually in the Federal Register by the U.S. Department of Justice.

III. Procedural Matters

Executive Order 12866 and 13563, Regulatory Planning and Review

Executive Order 12866 provides that the Office of Information and Regulatory Affairs in the Office of Management and Budget will review all significant rules. These supplementary rules are not a significant regulatory action and are not subject to review by the Office of Information and Regulatory Affairs under Executive Order 12866.

Executive Order 13563 reaffirms the principles of Executive Order 12866 while calling for improvements in the nation's regulatory system to promote predictability, to reduce uncertainty, and to use the best, most innovative, and least burdensome tools for achieving regulatory ends. The executive order directs agencies to consider regulatory approaches that reduce burdens and maintain flexibility and freedom of choice for the public where these approaches are relevant, feasible, and consistent with regulatory objectives. Executive Order 13563 emphasizes further that regulations must be based on the best available science and that the rulemaking process must allow for public participation and an open exchange of ideas. The BLM's State Office in Alaska has developed these supplementary rules in a manner consistent with these requirements.

National Environmental Policy Act (NEPA)

These supplementary rules do not constitute a major Federal action significantly affecting the quality of the human environment. A detailed statement under the National Environmental Policy Act of 1969 is not required because the BLM reached a Finding of No Significant Impact (FONSI). Through an interdisciplinary review, the BLM Eastern Interior Field Office prepared an Environmental Assessment (DOI-BLM-AK-F020-2017-0006-EA) and made it available on the BLM Eastern Interior Field Office NEPA register for public inspection on February 14, 2017, along with a draft FONSI. The Environmental Assessment and draft FONSI were available for public review on the BLM NEPA register for 30 days. The BLM's State Office in Alaska did not receive any comments. The Eastern Interior Field Manager signed a Decision Record to move forward with the proposed supplementary rule on March 17, 2017. These documents are available online at https://eplanning.blm.gov/eplanning-ui/project/71962/510.

Regulatory Flexibility Act

These supplementary rules will not have a significant economic effect on a substantial number of small entities under the Regulatory Flexibility Act (5 U.S.C. 601 et seq.).

Small Business Regulatory Enforcement Fairness Act

These supplementary rules do not comprise a major rule under 5 U.S.C. 804(2), the Small Business Regulatory Enforcement Fairness Act. These supplementary rules:

(a) Do not have an annual effect on the economy of $100 million or more.

(b) Will not cause a major increase in costs or prices for consumers, individual industries, Federal, State, or local government agencies, or geographic regions.

(c) Do not have significant adverse effects on competition, employment, investment, productivity, innovation, or the ability of U.S.-based enterprises to compete with foreign-based enterprises.

These supplementary rules merely establish rules of conduct for use of certain public lands and do not affect commercial or business activities of any kind.

Unfunded Mandates Reform Act

These supplementary rules do not impose an unfunded mandate on State, local, or tribal governments, or the private sector of more than $100 million per year. These rules do not have a significant or unique effect on State, local, or tribal governments or the private sector. A statement containing the information required by the Unfunded Mandates Reform Act (2 U.S.C. 1531 et seq.) is not required.

Executive Order 12630, Takings

These supplementary rules do not effect a taking of private property or otherwise have taking implications under Executive Order 12630. These rules do not address property rights in any form, and do not cause the impairment of one's property rights. A takings implication assessment is not required.

Executive Order 13132, Federalism

Under the criteria in section 1 of Executive Order 13132, these rules do not have sufficient federalism implications to warrant the preparation of a federalism summary impact statement. These rules do not conflict with any Alaska State law or regulation. A federalism summary impact statement is not required.

Executive Order 12988, Civil Justice Reform

These supplementary rules comply with the requirements of Executive Order 12988. Specifically, these rules:

(a) Meet the criteria of section 3(a) requiring that all regulations be reviewed to eliminate errors and ambiguity and be written to minimize litigation; and

(b) Meet the criteria of section 3(b)(2) requiring that all regulations be written in clear language and contain clear legal standards.

Executive Order 13175, Consultation and Coordination With Indian Tribal Governments

The Department of the Interior strives to strengthen its government-to-government relationship with Indian tribes, through a commitment to consultation with Indian tribes and recognition of their right to self-governance and tribal sovereignty. The BLM's State Office in Alaska has evaluated these supplementary rules under the Department's consultation policy and under the criteria in Executive Order 13175 and has determined that they have no substantial direct effects on federally recognized Indian tribes and that consultation under the Department's tribal consultation policy is not required. These rules do not affect Indian resource, religious, or property rights.

Executive Order 13352, Facilitation of Cooperative Conservation

These final supplementary rules will not impede cooperative conservation. The process used to develop these rules considered the interests of persons with ownership or other legally recognized interests in land; properly accommodated local participation in the process; and are consistent with protecting public health and safety.

Information Quality Act

The BLM did not conduct or use a study, experiment, or survey to disseminate information to the public in developing the proposed or final supplementary rules.

Executive Order 13211, Actions Concerning Regulations That Significantly Affect Energy Supply, Distribution, or Use

These supplementary rules do not comprise a significant energy action under the definition in Executive Order 13211. A Statement of Energy Effects is not required.

Paperwork Reduction Act

These supplementary rules do not contain information collection requirements, and a submission to the Office of Management and Budget under the Paperwork Reduction Act is not required.

Final Supplementary Rules

Author

The principal author of these supplementary rules is Jonathan Priday, Bureau of Land Management Law Enforcement Ranger for the Eastern Interior Field Office. For the reasons stated in the preamble, and under the authority of 43 CFR 8365.1-6, the State Director establishes supplementary rules for public lands managed by the BLM in Fairbanks, Alaska to read as follows:

Definitions

1. Brandish means to point, shake, or wave menacingly or to exhibit in an ostentatious manner.

2. Camping means erecting a tent or shelter of natural or synthetic material, preparing a sleeping bag or other bedding material, parking a motor vehicle, motor home, or trailer, or mooring a vessel above mean high water line of the Chena River for the apparent purpose of overnight occupancy.

3. Command and control of an animal means that the animal returns immediately to and remains by the side of the handler in response to a verbal command. An animal is not under command and control if the animal approaches or remains within 10 feet of any person other than the handler, unless that person has communicated to the handler by spoken word or gesture that he or she consents to the presence of the animal.

4. Explosives means any chemical compound, mixture, or device, the primary or common purpose of which is to function by explosion; the term includes, but is not limited to, dynamite and other high explosives, black powder, tannerite, ammonium perchlorate, ammonium nitrate, blasting caps, pellet powder, initiating explosives, detonators, safety fuses, squibs, detonating cord, igniter cord, and igniters. The term also includes materials on the list published and revised at least annually in the Federal Register by the U.S. Department of Justice pursuant to 18 U.S.C. 841(d) and 27 CFR 555.23.

5. Firearm or other projectile shooting device means all firearms, air rifles, pellet and BB guns, spring guns, bows or crossbows and arrows, slings, paint ball markers, other instruments that can propel a projectile (such as a bullet, dart, or pellet) by combustion, air pressure, gas pressure, or other means, or any instrument that can be loaded with and fire blank cartridges.

6. Motorized vehicle means a vehicle that is propelled by a motor or engine, such as a car, truck, off-highway vehicle, motorcycle, or snowmobile.

7. Street legal vehicle means a motorized vehicle that meets standards and requirements identified in Alaska Administrative Code Title 13 and Alaska Statute 28—Motor Vehicles.

8. Tether means to restrain an animal by tying to any object or structure by any means, including without limitation a chain, rope, cord, leash, or running line. Tethering does not include using a leash to walk an animal.

9. Fairbanks District Office administrative site means the parcels located at Fairbanks Meridian, Alaska, T. 1 S., R. 1 W., sec. 7, lots 63 and 69. The area described aggregates 11.41 acres.

Prohibited Acts

Unless otherwise authorized by the BLM, the following actions are prohibited on lands included within the Fairbanks District Office administrative site:

1. Unauthorized overnight occupancy, use, camping, or parking. Overnight is defined as anytime between the hours of 10 p.m. and 6 a.m.;

2. Starting or maintaining a fire except in approved devices;

3. Using, carrying, or brandishing weapons in violation of Alaska State and/or Federal law;

4. Failing to properly supervise pets or domestic animals as defined below:

a. Failing to restrain pets or domestic animals at all times. Leashes may not exceed six (6) feet in length.

b. Failing to immediately remove or dispose of in a sanitary manner all pet or domestic animal waste;

c. Failing to prevent a pet from harassing, molesting, or injuring humans, domesticated animals, or wildlife;

d. Leaving unattended and/or tethered domestic animals, except for animals that are inside passenger vehicles;

5. Launching or operating drones or other aerial unmanned vehicles;

6. Possessing or using fireworks and/or explosives;

7. Parking a motorized vehicle in violation of posted restrictions;

8. Leaving property unattended in excess of 24 hours;

9. Hunting or trapping;

10. Disorderly conduct as defined in Alaska Statute 11.61.110;

11. Indecent exposure as defined in Alaska Statute 11.41.458 and/or 11.41.460;

12. Cutting or gathering green trees or parts, or removing down or standing dead wood for any purpose;

13. Unauthorized access to or use of government or employee-owned structures or vehicles.

Exemptions

The following persons are exempt from these supplementary rules: Any Federal, State, local, and/or military employee acting within the scope of their duties; members of any organized rescue or fire-fighting force performing an official duty; and persons, agencies, municipalities or companies holding an existing valid special-use permit and operating within the scope of their permit.

Enforcement

Any person who violates any of these supplementary rules may be tried before a United States Magistrate and fined in accordance with 18 U.S.C. 3571, imprisoned for no more than 12 months under 43 U.S.C. 1733(a) and 43 CFR 8360.0-7, or both. In accordance with 43 CFR 8365.1-7, State or local officials may also impose penalties for violations of Alaska law.

Chad Padgett,
State Director, Alaska.

[FR Doc. 2021-16535 Filed 8-4-21; 8:45 am]

BILLING CODE 4310-JA-P